DEPARTMENT OF STATE

[Public Notice: 11610]

Notice of Determinations; Culturally Significant Objects Being Imported for Exhibition—Determinations: “The Language of Beauty in African Art” Exhibition

SUMMARY: Notice is hereby given of the following determinations: I hereby determine that certain objects being imported from abroad pursuant to agreements with their foreign owners or custodians for temporary display in the exhibition “The Language of Beauty in African Art” at the Kimbell Art Museum, Fort Worth, Texas; the Art Institute of Chicago, in Chicago, Illinois; and at possible additional exhibitions or venues yet to be determined, are of cultural significance, and, further, that their temporary exhibition or display within the United States as aforementioned is in the national interest. I have ordered that Public Notice of these determinations be published in the Federal Register.

FOR FURTHER INFORMATION CONTACT: Chi D. Tran, Program Administrator, Office of the Legal Adviser, U.S. Department of State (telephone: 202-632-6471; email: section2459@state.gov). The mailing address is U.S. Department of State, L/PD, 2200 C Street NW (SA-5), Suite 5H03, Washington, DC 20522-0505.

SUPPLEMENTARY INFORMATION: The foregoing determinations were made by the Assistant Secretary of the Bureau of Educational and Cultural Affairs in the U.S. Department of State, Lee A. Satterfield, pursuant to the authority vested in her the Act of October 19, 1965 (79 Stat. 985; 22 U.S.C. 2459), E.O.12047 of March 27, 1978, the Foreign Affairs Reform and Restructuring Act of 1998 (112 Stat. 2681, et seq.; 22 U.S.C. 6501 note, et seq.), Delegation of Authority No. 234 of October 1, 1999, and Delegation of Authority No. 236-3 of August 28, 2000.

Kevin E. Bryant,
Deputy Director, Office of Directives Management, Department of State.

[FR Doc. 2021-27236 Filed 12-14-21; 8:45 am]

BILLING CODE 4710-05-P